DEPARTMENT OF HEALTH AND HUMAN SERVICES

National Institutes of Health

Notice To Announce the Updated Significant Changes to the Revised NIH Grants Policy Statement for Fiscal Year 2023

AGENCY: National Institutes of Health, HHS.

ACTION: Notice.

SUMMARY: The National Institutes of Health (NIH) announces publication of the updated Significant Changes that have already been made to the NIH Grants Policy Statement (NIHGPS) in fiscal year 2022 that will be reflected in the GPS for fiscal year 2023. The NIHGPS provides both up-to-date policy guidance that serves as NIH standard terms and conditions of award for all NIH grants and cooperative agreements, and extensive guidance to those who are interested in pursuing NIH grants. This update incorporates significant changes for FY 2023, such as new and modified requirements, clarifies certain policies, and implements changes in statutes, regulations, and policies that have been implemented through appropriate legal and/or policy processes since the previous version of the NIHGPS dated December 2021.

DATES: The Significant Changes to the revised NIHGPS for Fiscal Year 2023 is now available for viewing.

ADDRESSES: Please visit our website to view the updated Significant Changes for Fiscal Year 2023 and NIHGPS at https://grants.nih.gov/policy/nihgps/index.htm.

FOR FURTHER INFORMATION CONTACT: Xanthia James, Director, Division of Grants Policy, Office of Policy for Extramural Research Administration, NIH, Rockledge I, Suite 350, Bethesda, MD 20817. Email: Xanthia.James@nih.gov. Phone number (301) 435-0949.

SUPPLEMENTARY INFORMATION: The requirements set out in the NIHGPS are aligned with 2 CFR part 200, as implemented for the Health and Human Services (HHS) at 45 CFR part 75, Uniform Administrative Requirements, Cost Principles, and Audit Requirements for HHS Awards. This update is applicable to all NIH grants and cooperative agreements with budget periods beginning on or after October 1, 2022. This update supersedes, in its entirety, the NIHGPS dated December 2021. Previous versions of the NIHGPS remain applicable as standard terms and conditions of award for all NIH grants and cooperative agreements with budget periods that began prior to October 1, 2022. This update incorporates new and modified requirements, clarifies certain policies, and implements changes in statutes, regulations, and policies that have been implemented through appropriate legal and/or policy processes since the previous version of the NIHGPS dated December 2021. The current version of the NIHGPS, in both HTML and PDF formats, as well as previous versions of the NIHGPS and documents summarizing significant changes implemented with each revision, are available at https://grants.nih.gov/policy/nihgps/index.htm.

Dated: December 1, 2022.
Tara A. Schwetz,
Acting Principal Deputy Director, National Institutes of Health.

[FR Doc. 2022-27770 Filed 12-21-22; 8:45 am]

BILLING CODE 4140-01-P